DEPARTMENT OF VETERANS AFFAIRS

[OMB Control No. 2900-0653]

Proposed Information Collection Activity: Proposed Collection; Comment Request

AGENCY: Veterans Health Administration, Department of Veterans Affairs.

ACTION: Notice.

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments for information to determine how veterans want to receive information about bio-terrorism.

DATES: Written comments and recommendations on the proposed collection of information should be received on or before January 31, 2005.

ADDRESSES: Submit written comments on the collection of information to Ann W. Bickoff, Veterans Health Administration (193E1), Department of Veterans Affairs, 810 Vermont Avenue, NW., Washington, DC 20420 or e-mail ann.bickoff@hq.med.va.gov. Please refer to “OMB Control No. 2900-0653” in any correspondence.

FOR FURTHER INFORMATION CONTACT: Ann W. Bickoff (202) 273-8310 or FAX (202) 273-9381.

SUPPLEMENTARY INFORMATION: Under the PRA of 1995 (Pub. L. 104-13; 44 U.S.C. 3501-3521), Federal agencies must obtain approval from the Office of Management and Budget (OMB) for each collection of information they conduct or sponsor. This request for comment is being made pursuant to section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title: Veterans Survey on Bio-terrorism, VA Form 10-21074(NR).

OMB Control Number: 2900-0653.

Type of Review: Extension of a currently approved collection.

Abstract: The Department of Veterans Affairs in response to PL 107-188, “Public Health Security and Bio-terrorism Preparedness and Response Act of 2002” will conduct a survey to evaluate how veterans obtained information about bio-terrorism in the past, or how they wish to obtain information in the future; their knowledge about the three different types of potential biological agents; their attitudes and perceptions related to experiencing and surviving a bio-terrorism attack in the future as well as their confidence in the role VA will play in the event of a bio-terrorism act, behavioral disposition and anxiety/anger over a future event and with respect to any educational material received on bio-terrorism. The survey will be used to determine the number of veterans who receive benefits but do not use the health care facilities and would use VA facilities as their primary source of health care in the event a future bio-terrorism incident.

Affected Public: Individuals or households.

Estimated Annual Burden: 1,760 hours.

Estimated Average Burden Per Respondent: 27 minutes.

Frequency of Response: Twice.

Estimated Number of Respondents: 7,382.

Dated: November 22, 2004.
By direction of the Secretary.
Loise Russell,
Director, Records Management Service.

[FR Doc. 04-26467 Filed 11-30-04; 8:45 am]

BILLING CODE 8320-01-P